DEPARTMENT OF HEALTH AND HUMAN SERVICES

Administration for Children and Families

Submission for OMB Review; Comment Request

Title: Administrative subpoena.

OMB No.: 0970-0152.

Description: Section 452(a)(11) of the Social Security Act requires the Secretary of Health and Human Services to promulgate a form for administrative subpoenas to be used by State child support enforcement programs to collect information for use in the establishment, modification and enforcement of child support orders on interstate cases. Section 454(9)(E) of the Social Security Act requires each State to cooperate with another State in using the Federal form for issuance of administrative subpoenas in interstate child support cases. Tribes are not required to use this form, but may choose to do so.

Respondents: State, local, or Tribal agencies administering a Child Support Enforcement program under title IV-D of the Social Security Act.

Annual Burden Estimates
Instrument | Number of respondents | Number of responses per respondent | Average burden hours per response | Total burden hours
Administrative Subpoena | 19,781 | 1 | .5 | 9,890

Estimated Total Annual Burden Hours: 9,890.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, e-mail address: Katherine_T._Astrich@omb.eop.gov.

Dated: October 25, 2004.
Robert Sargis,
Reports Clearance Officer.

[FR Doc. 04-24277 Filed 10-29-04; 8:45 am]

BILLING CODE 4184-01-M